SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that included in this notice are for new information collections and revisions to existing OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA. Fax: 202-395-6974. E-mail address: OIRA_Submission@omb.eop.gov.

(SSA), Social Security Administration, DCFAM, Attn: Reports Clearance Officer, 1333 Annex Building, 6401 Security Blvd., Baltimore, MD 21235. Fax: 410-965-6400. E-mail address: OPLM.RCO@ssa.gov.

I. The information collection listed below is pending at SSA and will be submitted to OMB within 60 days from the date of this notice. Therefore, your comments should be submitted to SSA within 60 days from the date of this publication. You can obtain copies of the collection instrument by calling the SSA Reports Clearance Officer at 410-965-0454 or by writing to the address listed above.

Medicare Quality Review Forms—20 CFR 418(b)(5)—0960-0707. The Social Security Administration (SSA) uses the Medicare Quality Review Forms collection to verify the information reported on Medicare Part D Subsidy applications (OMB No. 0960-0696) for a selected number of applicants. SSA is planning to expand the scope of this collection by conducting Quality Reviews with some current recipients of Medicare Part D subsidies who have recently undergone the redetermination process (OMB No. 0960-0723). This ICR is for two new appointment letters (forms SSA-9313 and SSA-9314) that such beneficiaries will complete to schedule an appointment for their Quality Review. The respondents are current recipients of Medicare Part D subsidies who have recently undergone a redetermination and who were selected for a Quality Review.

Type of Request: Revision to an existing OMB-approved information collection.

Form number and name | Number of respondents | Frequency of response | Average burden per response (minutes) | Estimated annual burden (hours)
SSA-9301 (Medicare Subsidy Quality Review Case Analysis Questionnaire) | 10,000 | 1 | 35 | 5,833
SSA-9302 (Notice of Quality Review Acknowledgement Form for those with Phones) | 10,000 | 1 | 15 | 2,500
SSA-9303 (Notice of Quality Review Acknowledgement Form for those without Phones) | 1,000 | 1 | 15 | 250
SSA-9304 (Checklist of Required Information; burden accounted for with forms SSA-9302, SSA-9303)
SSA-9308 (Request for Information) | 20,000 | 1 | 15 | 5,000
SSA-9310 (Request for Documents) | 10,000 | 1 | 5 | 833
SSA-9309 (Life Insurance Verification Form) | 8,000 | 1 | 15 | 2,000
SSA-8510 (Authorization to the Social Security Administration to Obtain Personal Information) | 10,000 | 1 | 5 | 833
SSA-9313 (Notice of Appointment Quality Review Acknowledgement Form)* | 4,500 | 1 | 15 | 1,125
SSA-9314 (Notice of Quality Review Acknowledgement Form (unknown phone numbers)* | 500 | 1 | 15 | 125
Total |  |  |  | 18,499
* These are the two new forms being cleared in the current ICR for this collection.

II. The information collection listed below has been submitted to OMB for clearance. Your comments on the information collection would be most useful if received by OMB and SSA within 30 days from the date of this publication. You can obtain a copy of the OMB clearance package by calling the SSA Reports Clearance Officer at 410-965-0454, or by writing to the address listed above.

Electronic Records Express—0960—NEW. Electronic Records Express (ERE) is a new Internet-based platform which facilitates the electronic submission of medical and school records needed for the disability process. These records are currently mailed as hard paper copies to SSA and state Disability Determination Services (DDSs) under the aegis of OMB No. 0960-0555, the Clearance of Information Collections Conducted by State Disability Determination Services on Behalf of SSA. While SSA and the DDSs will continue to accept paper copies, ERE offers respondents the opportunity to submit these records electronically. The revised burden for the actual document submission will continue to be covered under 0960-0555; this new collection covers the ERE registration and user training process. The respondents are medical providers and school professionals who submit information to SSA on behalf of disability applicants or beneficiaries.

Type of Request: New information collection.

Number of Respondents: 20,000.

Frequency of Response: 1.

Average Burden Per Response: 5 minutes.

Estimated Annual Burden: 1,667 hours.

Dated: May 15, 2007.
Elizabeth A. Davidson,
Reports Clearance Officer, Social Security Administration.

[FR Doc. E7-9726 Filed 5-18-07; 8:45 am]

BILLING CODE 4191-02-P